DEPARTMENT OF THE INTERIOR

Bureau of Indian Affairs

[234A2100DD/AAKC001030/A0A501010.999900]

Land Acquisitions; Tohono O'odham Nation, Far West Valley Site, Maricopa County, Arizona

AGENCY: Bureau of Indian Affairs, Interior.

ACTION: Notice.

SUMMARY: The Assistant Secretary—Indian Affairs made a final agency determination to acquire in trust 110.34 acres, more or less, of land known as the Far West Valley Site in Maricopa County, Arizona, (Site) for the Tohono O'odham Nation, (Nation) for gaming and other purposes.

DATES: This final determination was made on January 24, 2023.

FOR FURTHER INFORMATION CONTACT: Ms. Paula L. Hart, Director, Office of Indian Gaming, Mailstop 3543, 1849 C Street NW, Washington, DC 20240, paula.hart@bia.gov, (202) 219-4066.

SUPPLEMENTARY INFORMATION: On the date listed in the DATES section of this notice, the Assistant Secretary—Indian Affairs made a final agency determination to acquire the Site, consisting of 110.34 acres, more or less, in trust for the Nation under the authority of the Gila Bend Indian Reservation Lands Replacement Act, Public Law 99-503, 100 Stat. 1798 (1986), and Department regulations.

The Assistant Secretary—Indian Affairs, on behalf of the Secretary of the Interior, will immediately acquire title to the Site in the name of the United States of America in trust for the Nation upon fulfillment of all Departmental requirements. The legal description for the Site is as follows:

Legal Description of Property

A portion of the Southeast Quarter of Section 36, Township 3 North, Range 2 West of the Gila and Salt River Meridian, Maricopa County, Arizona, more particularly described as follows:

COMMENCING at the South Quarter Corner of said Section 36, being marked, as witnessed, by a 3″ Arizona Department of Transportation brass cap in handhole, North 89 degrees 48 minutes 26 seconds West, 15.00 feet from the calculated position, from which the Southeast Corner of said Section 36, being marked by a 3″ Maricopa County brass cap in handhole, bears South 89 degrees 56 minutes 32 seconds East, 2632.60 feet;

thence along the South line of said Southeast Quarter, South 89 degrees 56 minutes 32 seconds East, 1601.49 feet;

thence North 0 degrees 03 minutes 28 seconds East, 33.00 feet to the POINT OF BEGINNING;

thence along the Easterly right-of-way of State Route 303, as dedicated by Document 2014-0611509 of Maricopa County Records, the following courses:

thence North 85 degrees 37 minutes 53 seconds West, 286.30 feet;

thence North 0 degrees 03 minutes 28 seconds East, 75.64 feet;

thence North 89 degrees 56 minutes 32 seconds West, 996.07 feet;

thence North 10 degrees 50 minutes 52 seconds West, 101.01 feet;

thence North 0 degrees 15 minutes 47 seconds East, 504.14 feet;

thence North 5 degrees 21 minutes 18 seconds East, 916.34 feet;

thence North 32 degrees 20 minutes 04 seconds East, 159.39 feet;

thence North 48 degrees 30 minutes 08 seconds East, 493.37 feet;

thence North 63 degrees 51 minutes 13 seconds East, 481.52 feet;

thence South 89 degrees 48 minutes 01 seconds East, 1207.87 feet;

thence along the Southerly right-of-way of West Northern Parkway, as dedicated by Document 2017-0799438 of Maricopa County Records, the following courses:

thence South 0 degrees 15 minutes 32 seconds West, 52.65 feet;

thence South 89 degrees 44 minutes 28 seconds East, 54.46 feet;

thence South 44 degrees 44 minutes 22 seconds East, 35.13 feet;

thence along a line 80.00 feet West of and parallel with the East line of said Southeast Quarter, South 0 degrees 15 minutes 32 seconds West, 275.17 feet;

thence South 89 degrees 44 minutes 28 seconds East, 47.00 feet;

thence departing said Southerly right-of-way, along a line 33.00 feet West of and parallel with said East line, South 0 degrees 15 minutes 32 seconds West, 1931.50 feet;

thence along a line 33.00 feet North of and parallel with said South line, North 89 degrees 56 minutes 32 seconds West, 998.23 feet to the POINT OF BEGINNING.

Contains 4,806,640 square feet or 110.3453 acres, more or less.

Authority

This notice is published in the exercise of authority delegated by the Secretary of the Interior to the Assistant Secretary—Indian Affairs by 209 Departmental Manual 8.1, and is published to comply with the requirements of 25 CFR 151.12(c)(2)(ii) that notice of the decision to acquire land in trust be promptly provided in the Federal Register.

Bryan Newland,
Assistant Secretary—Indian Affairs.

[FR Doc. 2023-01829 Filed 1-27-23; 8:45 am]

BILLING CODE 4337-15-P